DEPARTMENT OF TRANSPORTATION

Surface Transportation Board

[STB Finance Docket No. 34989]

Ozark Valley Railroad—Acquisition and Operation Exemption—The Kansas City Southern Railway Company

Ozark Valley Railroad (OVRR), a noncarrier, has filed a verified notice of exemption under 49 CFR 1150.31 to: (1) Acquire by purchase from The Kansas City Southern Railway Company (KCSR) and to operate a portion of the KCSR Fulton Branch between milepost 3.0 near Mexico, MO, and milepost 24.99 at Fulton, MO; ¹ (2) lease from KCSR and to operate the portion of the Fulton Branch between milepost 0.0 and milepost 3.0; and (3) acquire from KCSR and to operate over incidental and overhead trackage rights to interchange over the portion of the KCSR Roodhouse Subdivision from milepost 321.0 near Arthur, MO, to milepost 329.0 near Mexico, including the connection with the Fulton Branch at milepost 326.3 at Mexico, and designated yard tracks at Mexico. The lines total of approximately 24.99 miles of acquired or leased line and approximately 8 miles of overhead or incidental trackage rights and are located in Audrain and Callaway Counties, MO.

¹ The transaction will also include acquisition and operation of the Arthur Industrial Spur (approximately 2.565 miles in length connecting to the KCSR Roodhouse Subdivision at the siding located at milepost 322.9 at Arthur, MO).

KCSR certifies that its projected revenues as a result of this transaction will not exceed those that would qualify it as a Class III rail carrier, and further certifies that its projected annual revenues will not exceed $5 million.

The earliest this transaction may be consummated is June 24, 2007, the effective date of the exemption (30 days after the exemption was filed).

If the verified notice contains false or misleading information, the exemption is void ab initio. Petitions to revoke the exemption under 49 U.S.C. 10502(d) may be filed at any time. The filing of a petition to revoke will not automatically stay the transaction. Petitions to stay must be filed no later than June 15, 2007 (at least 7 days before the exemption becomes effective).

An original and 10 copies of all pleadings, referring to STB Finance Docket No. 34989 must be filed with the Surface Transportation Board, 395 E Street, SW., Washington, DC 20423-0001. In addition, one copy of each pleading must be served on Charles H. Montange, 426 NW 162nd St., Seattle, WA 98177.

Board decisions and notices are available on our Web site at http://www.stb.dot.gov.

Decided: June 1, 2007.
By the Board, David M. Konschnik, Director, Office of Proceedings.
Vernon A. Williams,
Secretary.

[FR Doc. E7-11101 Filed 6-7-07; 8:45 am]

BILLING CODE 4915-01-P